DEPARTMENT OF ENERGY

Federal Energy Regulatory Commission

Combined Notice of Filings #1

Take notice that the Commission received the following electric corporate filings:

Docket Numbers: EC13-23-000.

Applicants: AEE2, L.L.C., AES ES Westover, LLC.

Description: Joint Application for Authorization Under Section 203 of the Federal Power Act and Request for Expedited Action of AEE2, L.L.C., et al.

Filed Date: 10/24/12.

Accession Number: 20121024-5140.

Comments Due: 5 p.m. ET 11/14/12.

Take notice that the Commission received the following electric rate filings:

Docket Numbers: ER12-50-001.

Applicants: California Independent System Operator Corporation.

Description: 2012-10-24 CAISO Flexible Ramping Constraints Compliance Filing to be effective 11/1/2012.

Filed Date: 10/24/12.

Accession Number: 20121024-5126.

Comments Due: 5 p.m. ET 11/14/12.

Docket Numbers: ER12-1021-001.

Applicants: Midwest Independent Transmission System Operator, Inc.

Description: 10-24-2012 CDC Compliance Filing to be effective 9/1/2012.

Filed Date: 10/24/12.

Accession Number: 20121024-5121.

Comments Due: 5 p.m. ET 11/14/12.

Docket Numbers: ER13-182-000.

Applicants: PJM Interconnection, L.L.C.

Description: Queue No. W4-010, Original Service Agreement No. 3405 to be effective 9/24/2012.

Filed Date: 10/24/12.

Accession Number: 20121024-5134.

Comments Due: 5 p.m. ET 11/14/12.

Docket Numbers: ER13-183-000.

Applicants: Clear Choice Energy, LLC.

Description: Baseline New to be effective 12/8/2012.

Filed Date: 10/25/12.

Accession Number: 20121025-5002.

Comments Due: 5 p.m. ET 11/15/12.

Take notice that the Commission received the following land acquisition reports:

Docket Numbers: LA12-3-000.

Applicants: Canastota Windpower, LLC, Caney River Wind Project, LLC EGP Stillwater Solar, LLC, Enel Stillwater, LLC, Smoky Hills Wind Farm, LLC, Smoky Hills Wind Project II, LLC, Rocky Ridge Wind Project, LLC, Chisholm View Wind Project, LLC.

Description: Quarterly Land Acquisition Report of Enel Green Power North America, Inc.

Filed Date: 10/25/12.

Accession Number: 20121025-5030.

Comments Due: 5 p.m. ET 11/15/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2012.
Nathaniel J. Davis, Sr.,
Deputy Secretary.

[FR Doc. 2012-26921 Filed 11-2-12; 8:45 am]

BILLING CODE 6717-01-P